DEPARTMENT OF DEFENSE

Department of the Army

Army Science Board Summer Study Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160, the Department of the Army announces the following committee meeting:

Name of Committee: Army Science Board (ASB).

Date(s) of Meeting: August 10, 2011.

Time(s) of Meeting: 0800-1200.

Location: Newport News Marriott at City Center, 740 Town Center Drive, Newport News, VA 23606.

Purpose: Adopt the findings and recommendations for phase one of the following studies: Strengthening Sustainability and Resiliency of a Future Force and Tactical Non-cooperative Biometric Systems.

Proposed Agenda:

Wednesday 10 August:

0830-1130 Study results for Strengthening Sustainability and Resiliency of a Future Force and Tactical Non-Cooperative Biometric Systems are presented to the ASB. The ASB deliberates and votes to adopt the findings and recommendations on the studies.

FOR FURTHER INFORMATION CONTACT: For information please contact Mr. Justin Bringhurst at justin.bringhurst@us.army.mil or (703) 617-0263 or Carolyn German at carolyn.t.german@us.army.mil or (703) 617-0258.

SUPPLEMENTARY INFORMATION: None.

Brenda S. Bowen,
Army Federal Register Liaison Officer.

[FR Doc. 2011-18521 Filed 7-21-11; 8:45 am]

BILLING CODE 3710-08-P